NUCLEAR REGULATORY COMMISSION

[Docket Nos. 50-317 and 50-318]

Calvert Cliffs Nuclear Power Plant, Inc., Calvert Cliffs Nuclear Power Plant, Unit Nos. 1 and 2; Exemption

1.0 Background

Calvert Cliffs Nuclear Power Plant, Inc. (CCNPPI or the licensee) is the holder of Renewed Facility Operating License Nos. DPR-53 and DPR-69, which authorizes operation of Calvert Cliffs Nuclear Power Plant, Unit Nos. 1 and 2 (CCNPP1-2). The license provides, among other things, that the facility is subject to all rules, regulations, and orders of the U.S. Nuclear Regulatory Commission (NRC, the Commission) now or hereafter in effect.

The facility consists of two pressurized-water reactors located in Calvert County, Maryland.

2.0 Purpose

Section IV.F.2.b of Appendix E, to 10 CFR part 50 requires each licensee at each site to conduct an exercise of its onsite emergency plan every 2 years and indicates the exercise may be included in the full participation biennial exercise required by paragraph 2.c of the same section. In addition, licensees are to take actions necessary to ensure that adequate emergency response capabilities are maintained during the interval between biennial exercises by conducting drills. Paragraph 2.c requires offsite plans for each site to be exercised biennially with full participation by each offsite authority having a role under the plan. Normally during such biennial full participation exercises, the NRC evaluates onsite and the Federal Emergency Management Agency (FEMA) evaluates offsite emergency preparedness activities. The licensee must coordinate and schedule an exercise that involves multiple governmental agencies at the Federal, State, and local level. Many local response organizations depend on volunteers. In order to accommodate this task, the NRC has allowed licensees to schedule full participation exercises at any time during the calendar biennium. This gives the licensee the flexibility to schedule the exercise within a 12- to 36-month window and still meet the biennial requirement specified in the regulations.

The licensee was scheduled to conduct a biennial full participation exercise on October 21, 2003. The licensee has requested a temporary exemption to 10 CFR part 50, Appendix E, Section IV.F.2.c that would reschedule the planned offsite full-participation emergency exercise from 2003 to 2004 and subsequent exercises would be scheduled biennially from the year 2003. The most recently evaluated biennial full-participation exercise at CCNPP was conducted on September 9, 2002.

3.0 Discussion

Pursuant to 10 CFR 50.12, the Commission may, upon application by any interested person or upon its own initiative, grant exemptions from the requirements of 10 CFR part 50, when (1) the exemptions are authorized by law, will not present an undue risk to public health or safety, and are consistent with the common defense and security; and (2) when special circumstances are present. Under § 50.12(a)(2), special circumstances include, among other things, when application of the regulation in the particular circumstance would not serve, or is not necessary to achieve, the underlying purpose of the rule.

The underlying purpose of 10 CFR part 50, Appendix E, Section IV.F.2.c is to establish requirements for the biennial exercise of offsite emergency plans for the purpose of exercising employees and offsite authorities having a role under the plan. Where the offsite authority has a role under a radiological response plan for more than one site, it shall fully participate in one exercise every 2 years and shall, at least, partially participate in the other offsite plan exercised in this period.

CCNPPI had previously scheduled a full-participation emergency preparedness exercise to be conducted on October 21, 2003, to meet the requirements of 10 CFR part 50, Appendix E, Section IV.F.2.c. However, preparation for Hurricane Isabel and subsequent recovery efforts have consumed the resources of the Maryland Emergency Management Agency (MEMA) and other local and State agencies having a role under the Emergency Response Plan. The drill occurred, as scheduled, without the State of Maryland and local agency participation.

Calvert Cliffs has previously conducted one full-participation emergency preparedness drill on September 9, 2002. Additionally, site-wide non-state participation drills were conducted on June 24, September 9, and October 21, 2003. Although not evaluated by NRC and FEMA, the June, September, and October 2003 drill results have been critiqued by the CCNPPI emergency response organization and independently by their Nuclear Plant Assessment Department. Issues identified during these drills and critiques are being resolved under the licensee's corrective action program.

Calvert Cliffs has maintained emergency preparedness in accordance with the Emergency Response Plan. Requirements for semi-annual health physics exercises were met by the conduct of the June, September, and October 2003 drills. The requirement for a post-accident sampling exercise was met on October 9, 2003. The annual requirement for an environmental sampling exercise was met on July 28, 2003. A dose assessment office exercise was conducted on October 17, 2003. The annual requirement for a severe accident management exercise was met on October 21, 2003. State and county agencies conducted a FEMA evaluated ingestion pathway exercise on October 22-24, 2003.

The State of Maryland and local governments have maintained radiological emergency preparedness by fully participating in the ingestion pathway exercise on October 22-24, 2003. Additionally, the State agencies participated in the federally evaluated Peach Bottom Atomic Power Station exercise on November 19, 2002. Calvert County Public Safety, Calvert Memorial Hospital, and local rescue squads participated in a simulated contaminated injury drill at CCNPP on August 15, 2002. Two FEMA areas requiring corrective action and one planning issue await final dispositioning pending completion of the next full participation exercise.

CCNPPI has discussed the proposed deferral of the full-participation exercise with FEMA, MEMA, and other local and State agencies having a role under the Emergency Response Plan. All of these agencies have indicated support for the proposed change in light of present circumstances that are beyond their control. Preparation for Hurricane Isabel and subsequent recovery efforts have consumed MEMA and local county resources that would have otherwise been used to support the evaluation scheduled for October 21, 2003.

The NRC has provided flexibility in scheduling full-participation emergency preparedness exercises by allowing licensees to schedule them at any time during the biennial calendar year. This provides a 12- to 36-month window to schedule full-participation exercises while still meeting the biennial requirement specified in the regulations. Conducting the Calvert Cliffs full-participation emergency preparedness exercise in calendar year 2004 places the exercise past the previously scheduled 2003 biennial exercise. However, the interval between biennial exercises would, at the most, be about 25 months, which is within the parameters of the existing general policy and practice.

The licensee states that between October 2003 and September 2004, measures will be taken to maintain emergency preparedness at CCNPP. The existing training and drill schedule currently in place for emergency response activities will remain in place and be adjusted as necessary to ensure the readiness of both onsite and offsite emergency response personnel. For onsite emergency responders, this includes annual training and participation in drills. Calvert Cliffs will conduct quarterly combined functional and/or activation drills and a self-evaluated annual exercise. These drills and the self-evaluated annual exercise satisfy the drill requirements of 10 CFR part 50, Appendix E, IV.F.2.b. Offsite agencies in Maryland are routinely invited to, and actively participate in, these drills and exercises as a training activity for offsite response personnel. Local response groups conduct annual training and participate in emergency operations center drills. Representatives of the Calvert Cliffs plant staff meet routinely with State and local emergency management and support groups. The rescheduling of the biennial exercise has been discussed with these parties and is supported by both State and local representatives. These measures will maintain an acceptable level of emergency preparedness during this period.

The licensee has met the special circumstances criteria of § 50.12(a)(2)(ii), (iv) and (v) of 10 CFR. The circumstances dictating the request for exemption are beyond the licensee's control and the licensee has made a good faith effort to conduct the exercise and comply with the regulations. The activities centered around Hurricane Isabel rendered the conduct of a full-participation exercise impossible. Application of the regulation would not have served the underlying purpose of the rule, which is to train employees and offsite authorities, in that State and local officials were not available to participate in the exercise. Postponement of exercise conduct was a benefit to public health and safety by allowing State and local resources to be applied to hurricane recovery. There is no decrease in safety as the evaluated exercise will be rescheduled in 2004, at a time when full-participation of State and local agencies will be possible and the licensee's drill program will include offsite agency participation as a compensating measure, thus contributing to the justification of the exemption. The exemption only provides temporary relief from the applicable regulation, in that the licensee is planning to conduct the exercise in the next calendar year and has not requested any permanent changes in future exercise scheduling. The regulations of this part do allow for the postponement of exercises and the regulations have been invoked previously for appropriate circumstances. This being the case, the occasional need to postpone exercises was considered as a potential circumstance. The staff has determined that the conduct of the full participation exercise as early as practical in 2004 is prudent.

The NRC staff examined the licensee's rationale to support the exemption request and as set forth above, has determined that the full-participation exercise for year 2003 be deferred to 2004 and subsequent exercises be scheduled biennially from year 2003.

Therefore, the staff concludes that granting an exemption under the special circumstances of 10 CFR 50.12(a)(2)(ii) is appropriate.

4.0 Conclusion

Accordingly, the Commission has determined that, pursuant to 10 CFR 50.12(a), the exemption is authorized by law, will not endanger life or property or common defense and security, and is, otherwise, in the public interest. Also, special circumstances are present. Therefore, the Commission hereby grants CCNPPI a temporary exemption from the requirements of 10 CFR part 50, Appendix E, Section IV.F.2.c with respect to the rescheduling of the planned offsite full-participation emergency exercise from 2003 to 2004 and subsequent exercises will be scheduled biennially from the year 2003.

Pursuant to 10 CFR 51.32, the Commission has determined that the granting of this exemption will not have a significant effect on the quality of the human environment (68 FR 71172).

This exemption is effective upon issuance.

Dated at Rockville, Maryland, this 22nd day of December, 2003.
For the Nuclear Regulatory Commission.
Eric J. Leeds,
Acting Director, Division of Licensing Project Management, Office of Nuclear Reactor Regulation.

[FR Doc. 03-31956 Filed 12-29-03; 8:45 am]

BILLING CODE 7590-01-P